DEPARTMENT OF THE INTERIOR

National Park Service

[NPS-WASO-NAGPRA-NPS0024341; PPWOCRADNO-PCU00RP14.R50000]

Notice of Inventory Completion: Arkansas Archeological Survey, Fayetteville, AR; Correction

AGENCY: National Park Service, Interior.

ACTION: Notice; correction.

SUMMARY: The Arkansas Archeological Survey has corrected an inventory of human remains and associated funerary objects, published in a Notice of Inventory Completion in the Federal Register on December 22, 2014. This notice corrects the number of associated funerary objects listed in that notice. Lineal descendants or representatives of any Indian Tribe or Native Hawaiian organization not identified in this notice that wish to request transfer of control of these associated funerary objects should submit a written request to the Arkansas Archeological Survey. If no additional requestors come forward, transfer of control of associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to the Arkansas Archeological Survey at the address in this notice by March 1, 2018.

ADDRESSES: George Sabo, Director, Arkansas Archeological Survey, 2475 North Hatch Avenue, Fayetteville, AR 72704, telephone (479) 575-3556.

SUPPLEMENTARY INFORMATION: Notice is here given in accordance with the Native American Graves Protection and Repatriation Act (NAGPRA), 25 U.S.C. 3003, of the correction of an inventory of human remains and associated funerary objects under the control of the Arkansas Archeological Survey. The human remains and associated funerary objects were removed from multiple counties in the State of Arkansas.

This notice is published as part of the National Park Service's administrative responsibilities under NAGPRA, 25 U.S.C. 3003(d)(3). The determinations in this notice are the sole responsibility of the museum, institution, or Federal Agency that has control of the Native American human remains and associated funerary objects. The National Park Service is not responsible for the determinations in this notice.

This notice corrects the number of associated funerary objects published in Notice of Inventory Completion in the Federal Register (79 FR 76351-76361, December 22, 2014). An additional funerary object was recently identified among the collections. To date, transfer of control of the associated funerary objects has not occurred.

Correction

In the Federal Register (79 FR 76354, December 22, 2014), column 2, paragraph 1, sentence 3, under the heading “History and Description of the Remains,” is corrected by substituting the following sentence:

The one associated funerary object is a partially reconstructed Mississippi Plain jar.

In the Federal Register (79 FR 76355, December 22, 2014), column 1, paragraph 5, under the heading “History and Description of the Remains,” is corrected by adding the following sentence:

No associated funerary objects are present.

In the Federal Register (79 FR 76361, December 22, 2014), column 3, paragraph 3, under the heading “Determinations made by the Arkansas Archeological Survey,” is corrected by substituting the number “274” with the number “275”.

Additional Requestors and Disposition

Lineal descendants or representatives of any Indian Tribe or Native Hawaiian organization not identified in this notice that wish to request transfer of control of these associated funerary objects should submit a written request with information in support of the request to George Sabo, Director, Arkansas Archeological Survey, 2475 North Hatch Avenue, Fayetteville, AR 72704, telephone (479) 575-3556, by March 1, 2018. After that date, if no additional requestors have come forward, transfer of control of the associated funerary objects to the Quapaw Tribe of Indians may proceed.

The Arkansas Archeological Survey is responsible for notifying the Quapaw Tribe of Indians that this notice has been published.

Dated: October 3, 2017.
Melanie O'Brien,
Manager, National NAGPRA Program.

Editorial Note: This document was received at the Office of the Federal Register on January 25, 2018.

[FR Doc. 2018-01719 Filed 1-29-18; 8:45 am]

BILLING CODE 4312-52-P